DEPARTMENT OF ENERGY

Federal Energy Regulatory Commission

Combined Notice of Filings #1

Take notice that the Commission received the following electric corporate filings:

Docket Numbers: EC21-10-000.

Applicants: NextEra Energy Transmission, LLC, GridLiance West LLC, GridLiance High Plains LLC, GridLiance HeartLand LLC.

Description: Response to December 10, 2020 Deficiency Letter of NextEra Energy Transmission, LLC, et al.

Filed Date: 12/16/20.

Accession Number: 20201216-5243.

Comments Due: 5 p.m. ET 1/6/21.

Docket Numbers: EC21-35-000.

Applicants: Lone Valley Solar Park I LLC, Lone Valley Solar Park II LLC.

Description: Application for Authorization Under Section 203 of the Federal Power Act of Lone Valley Solar Park I LLC, et al.

Filed Date: 12/16/20.

Accession Number: 20201216-5242.

Comments Due: 5 p.m. ET 1/6/21.

Take notice that the Commission received the following electric rate filings:

Docket Numbers: ER10-2819-006; ER10-2358-007; ER10-2431-007; ER14-1390-005; ER14-1397-005; ER14-413-004; ER19-1778-002.

Applicants: ALLETE, Inc., ALLETE Clean Energy, Inc., Chanarambie Power Partners, LLC, Glen Ullin Energy Center, LLC, Lake Benton Power Partners LLC, Storm Lake Power Partners I LLC, Storm Lake Power Partners II, LLC.

Description: Triennial Market Power Analysis for Central Region of ALLETE, Inc., et al.

Filed Date: 12/16/20.

Accession Number: 20201216-5241.

Comments Due: 5 p.m. ET 2/16/21.

Docket Numbers: ER20-55-001.

Applicants: OhmConnect, Inc.

Description: Notice of Non-Material Change in Status of OhmConnect, Inc.

Filed Date: 12/16/20.

Accession Number: 20201216-5246.

Comments Due: 5 p.m. ET 1/6/21.

Docket Numbers: ER20-2768-001.

Applicants: Greensville County Solar Project, LLC.

Description: Compliance filing: Amended Market-Based Rate Tariff to be effective 2/15/2021.

Filed Date: 12/16/20.

Accession Number: 20201216-5191.

Comments Due: 5 p.m. ET 1/6/21.

Docket Numbers: ER21-281-001.

Applicants: MidAmerican Energy Company.

Description: Tariff Amendment: Services Tariff v. 2—Revised (Amendment 1) to be effective 12/31/9998.

Filed Date: 12/17/20.

Accession Number: 20201217-5088.

Comments Due: 5 p.m. ET 1/7/21.

Docket Numbers: ER21-667-000.

Applicants: Glen Ullin Energy Center, LLC.

Description: § 205(d) Rate Filing: Glen Ullin Energy Center, LLC Revised MBR Tariff Filing to be effective 2/15/2021.

Filed Date: 12/16/20.

Accession Number: 20201216-5165.

Comments Due: 5 p.m. ET 1/6/21.

Docket Numbers: ER21-669-000.

Applicants: Morongo Transmission LLC.

Description: Baseline eTariff Filing: Initial Transmission Owner Tariff and Transmission Revenue Requirement Filing to be effective 12/31/9998.

Filed Date: 12/17/20.

Accession Number: 20201217-5001.

Comments Due: 5 p.m. ET 1/7/21.

Docket Numbers: ER21-670-000.

Applicants: Midcontinent Independent System Operator, Inc., Otter Tail Power Company.

Description: § 205(d) Rate Filing: 2020-12-17_SA 3604 OTP-MPC T20-02 TIA (Concrete 115kV) to be effective 12/10/2020.

Filed Date: 12/17/20.

Accession Number: 20201217-5022.

Comments Due: 5 p.m. ET 1/7/21.

Docket Numbers: ER21-671-000.

Applicants: New York State Reliability Council, L.L.C.

Description: Informational Filing of the Revised Installed Capacity Requirement for the New York Control Area by the New York State Reliability Council, L.L.C.

Filed Date: 12/15/20.

Accession Number: 20201215-5228.

Comments Due: 5 p.m. ET 1/5/21.

Docket Numbers: ER21-672-000.

Applicants: Duke Energy Florida, LLC.

Description: Pre-Arranged/Pre-Agreed (Settlement and Settlement Agreement) Filing of Duke Energy Florida, LLC.

Filed Date: 12/16/20.

Accession Number: 20201216-5248.

Comments Due: 5 p.m. ET 1/6/21.

Docket Numbers: ER21-673-000.

Applicants: PA Solar Park II, LLC.

Description: Baseline eTariff Filing: Reactive Power Compensation Tariff Filing to be effective 12/18/2020.

Filed Date: 12/17/20.

Accession Number: 20201217-5071.

Comments Due: 5 p.m. ET 1/7/21.

Docket Numbers: ER21-674-000.

Applicants: California Independent System Operator Corporation.

Description: § 205(d) Rate Filing: 2020-12-17 EIM Entity Agreement—Tacoma to be effective 3/1/2021.

Filed Date: 12/17/20.

Accession Number: 20201217-5073.

Comments Due: 5 p.m. ET 1/7/21.

Docket Numbers: ER21-675-000.

Applicants: San Diego Gas & Electric Company.

Description: § 205(d) Rate Filing: 2021 RS Filing to be effective 1/1/2021.

Filed Date: 12/17/20.

Accession Number: 20201217-5126.

Comments Due: 5 p.m. ET 1/7/21.

Docket Numbers: ER21-676-000.

Applicants: NSTAR Electric Company.

Description: Tariff Cancellation: Cancellation of SEMASS Design, Engineering and Construction Agreement to be effective 12/17/2020.

Filed Date: 12/17/20.

Accession Number: 20201217-5139.

Comments Due: 5 p.m. ET 1/7/21.

Docket Numbers: ER21-677-000.

Applicants: Northern States Power Company, a Minnesota corporation.

Description: § 205(d) Rate Filing: 2020-12-17_NSP-MKPC-TCRA-598-0.1.0-Filing to be effective 2/16/2021.

Filed Date: 12/17/20.

Accession Number: 20201217-5142.

Comments Due: 5 p.m. ET 1/7/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 17, 2020.
Kimberly D. Bose,
Secretary.

[FR Doc. 2020-28388 Filed 12-22-20; 8:45 am]

BILLING CODE 6717-01-P